DEPARTMENT OF TRANSPORTATION

Surface Transportation Board

[Docket No. AB 33 (Sub-No. 317X)]

Union Pacific Railroad Company—Discontinuance of Service Exemption—in Yuba County, CA

Union Pacific Railroad Company (UP) has filed a verified notice of exemption under 49 CFR part 1152 Subpart F—Exempt Abandonments and Discontinuances of Service to discontinue service over a portion of the Pearson Industrial Lead between milepost 134.39 near Cleveland, CA, and milepost 133.29 near Alicia, CA, a total distance of 1.1 miles in Yuba County, CA (the Line). The Line traverses United States Postal Service Zip Codes 95961 and 95901.

UP has certified that no local or overhead traffic has moved over the Line for at least two years and that no formal complaint filed by a user of rail service on the Line (or filed by a state or local government entity acting on behalf of such user) regarding cessation of service over the Line is pending either with the Surface Transportation Board (Board) or any U.S. District Court or has been decided in favor of complainant within the two-year period. UP further has certified that the requirements of 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will be effective on March 25, 2014, unless stayed pending reconsideration. Petitions to stay that do not involve environmental issues and formal expressions of intent to file an OFA to subsidize continued rail service under 49 CFR 1152.27(c)(2) ¹ must be filed by March 3, 2014.² Petitions to reopen must be filed by March 13, 2014, with the Surface Transportation Board, 395 E Street SW., Washington, DC 20423-0001.

¹ Each OFA must be accompanied by the filing fee, which currently is set at $1,600. See 49 CFR 1002.2(f)(25).

² Because UP is seeking to discontinue service, not to abandon the line, trail use/rail banking and public use conditions are not appropriate. Likewise, no environmental or historical documentation is required here under 49 CFR 1105.6(c) and 1105.8(b), respectively.

A copy of any petition filed with the Board should be sent to UP's representative: Jeremy M. Berman, Assistant General Attorney, 1400 Douglas Street, STOP 1580, Omaha, NE 68179.

If the verified notice contains false or misleading information, the exemption is void ab initio.

Board decisions and notices are available on our Web site at www.stb.dot.gov.

Decided: February 14, 2014.
By the Board, Rachel D. Campbell, Director, Office of Proceedings.
Derrick A. Gardner,
Clearance Clerk.

[FR Doc. 2014-03662 Filed 2-20-14; 8:45 am]

BILLING CODE 4915-01-P